DEPARTMENT OF HEALTH AND HUMAN SERVICES

Assistant Secretary for Preparedness and Response; Notification of a Sole Source Cooperative Agreement Award

AGENCY: Department of Health and Human Services (HHS), Assistant Secretary for Preparedness and Response (ASPR), Office of Emergency Management (OEM).

ACTION: Notification of a sole source Cooperative Agreement Award.

Statutory Authority: Public Health Service Act, Section 301.

Estimated Amount of Award: $200,000 to $ 750,000 (contingent on the availability of funding).

Project Period: September 30, 2013 to March 31, 2015.

Summary and Project Overview

The Office of Emergency Management (OEM) within the Office of the Assistant Secretary for Preparedness and Response (ASPR) is responsible for developing operational plans to ensure the preparedness of the Office, the Department, the Federal Government and the public to respond to and recover from domestic and international public health and medical threats and emergencies. OEM is also responsible for ensuring that ASPR has the systems, logistical support, and procedures necessary to coordinate the Department's operational response to acts of terrorism and other public health and medical threats and emergencies. OEM is responsible for leading Emergency Support Function #8 (ESF #8), Public Health and Medical Services, under the National Response Framework and the Health and Social Services (H&SS) Recovery Support Function (RSF) under the National Disaster Recovery Framework (NDRF), released in September 2011.

In the field of disaster and emergency management, post-disaster recovery has played an important, although often lower profile role. When it is addressed, it frequently references the restoration of previously extant physical or economic systems within a community, with a focus on “bricks and mortar” infrastructure reconstitution (e.g. roads, bridges, housing stock, commercial structures, etc) and/or business and commercial recovery.ⁱ Oftentimes absent from consideration is the critical importance of health, and the public health, medical and social services and underlying determinants of health that are key to supporting overall recovery.ⁱⁱ

Anecdotal evidence from recent disasters and other scientific evidence iii iv v suggest that there is not a broad understanding of the recovery activities that most significantly impact the health of individuals of populations. This grant will support the development and distribution of a set of evidence-based recommendations that inform recovery efforts in affected communities and the work of both emergency managers and health professionals. The recommendations will be informed by input from stakeholders and subject matters experts.

Pursuant to the National Health Security Strategy (NHSS) objective 8.3 and, specifically, sub-objective 8.3.1, this grant will generally seek “to continuously improve recovery efforts, [through] data elements assess[ing] recovery progress, quality, and outcomes.” ᵛⁱ This grant also supports HHS Strategic Plan Objective 3F: Protect Americans' health and safety during emergencies, and foster resilience in response to emergencies.

Justification

The Institute of Medicine (IOM) is a nonprofit organization and is part of the National Academy of Sciences. IOM undertakes studies that may be specific mandates from Congress or requested by federal agencies and independent organizations.

The IOM has an established Forum on Medical and Public Health Preparedness for Catastrophic Events. The Forum held a panel on Long-term Recovery of the Healthcare Service Delivery Infrastructure in February 2012 during the 2012 Public Health Preparedness Summit in Anaheim, CA. The Forum's purpose is to foster dialogue among stakeholders, identify opportunities for public/private collaboration, and identify and address issues relevant to public health and medical preparedness.

The IOM is part of the National Academies, which also has an established Disasters Roundtable. The Disasters Roundtable holds workshops three times per year on topics often relevant to recovery partners. The IOM is uniquely positioned to be able to not only identify relevant partners and stakeholders but also garner their participation in the proposed activities because of their existing structures and established reputation.

Additional Information: The agency program contact is Esmeralda Pereira, esmeralda.pereira@hhs.gov, 202-205-0065.

Dated: September 27, 2013.
Nicole Lurie,
Assistant Secretary for Preparedness and Response.

ⁱ Abramson, D., Stehling-Ariza, T., Soo Park, Y., Walsh, L., Culp, D. 2010. Measuring Individual Disaster Recovery: A Socioecological Framework. Disaster Medicine and Public Health Preparedness 4(S1): S46-S54.

ⁱⁱ Burkle, F. M. 2011. The Limits to Our Capacity: Reflections on Resiliency, Community Engagement, and Recovery in 21st Century Crises. Disaster Medicine and Public Health Preparedness 5(S2): S176-S181.

ⁱⁱⁱ Masten, A.S., and Obradovic, J. 2007. Disaster preparation and recovery: lessons from research on resilience in human development. Ecology and Society 13(1): 9. [online] URL: http://www.ecologyandsociety.org/vol13/iss1/art9/.

ⁱᵛ Wallace, D., and R. Wallace. 2007. Urban Systems during Disasters: Factors in Resilience. Ecology and Society 13(1): 18. [online] URL: http://www.ecologyandsociety.org/vol13/iss1/art18/.

ᵛ Abramson, D., Soo Park, Y., Stehling-Ariza, T., Redlener, I. 2010. Children as Bellwethers of Recovery: Dysfunctional Systems and the Effects of Parents, Households, and Neighborhoods on Serious Emotional Disturbance in Children After Hurricane Katrina. Disaster Medicine and Public Health Preparedness 4(S1): S17-27.

ᵛⁱ NHSS.

[FR Doc. 2013-24096 Filed 9-30-13; 8:45 am]

BILLING CODE 4150-37-P